DEPARTMENT OF TRANSPORTATION

Federal Aviation Administration

14 CFR Part 39

[Docket No. FAA-2016-0459; Directorate Identifier 2015-NM-081-AD; Amendment 39-18589; AD 2016-14-08]

RIN 2120-AA64

Airworthiness Directives; Airbus Airplanes

AGENCY: Federal Aviation Administration (FAA), Department of Transportation (DOT).

ACTION: Final rule.

SUMMARY: We are superseding Airworthiness Directive (AD) 2015-10-03 for certain Airbus Model A330-200 and -300 series airplanes, and Model A340-200 and -300 series airplanes. AD 2015-10-03 required a detailed inspection for visible chrome of each affected main landing gear (MLG) sidestay upper cardan pin, associated nuts, and retainer assembly; pin replacement if needed; measurement of cardan pin clearance dimensions (gap check); corrective actions if necessary; and a report of all findings. This new AD requires a detailed inspection of the upper cardan pin and nut threads for any corrosion, pitting, or thread damage, and if necessary, replacement of the cardan pin and nut. This new AD also revises the applicability to include additional airplane models. This AD was prompted by a report that an MLG sidestay upper cardan pin migration event had been caused by corrosion due to lack of jointing compound and inadequate sealant application during the MLG installation. We are issuing this AD to detect and correct migration of the sidestay upper cardan pin, which could result in disconnection of the sidestay upper arm from the airplane structure, and could result in a landing gear collapse and consequent damage to the airplane and injury to occupants.

DATES: This AD is effective August 16, 2016.

The Director of the Federal Register approved the incorporation by reference of certain publications listed in this AD as of August 16, 2016.

ADDRESSES: For service information identified in this final rule, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-0459.

Examining the AD Docket

You may examine the AD docket on the Internet at http://www.regulations.gov by searching for and locating Docket No. FAA-2016-0459; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2015-10-03, Amendment 39-18158 (80 FR 30608, May 29, 2015) (“AD 2015-10-03”). AD 2015-10-03 applied to certain Airbus Model A330-200 and -300 series airplanes, and Model A340-200 and -300 series airplanes. The NPRM published in the Federal Register on January 21, 2016 (81 FR 3346) (“the NPRM”).

The European Aviation Safety Agency (EASA), which is the Technical Agent for the Member States of the European Union, has issued EASA Airworthiness Directive 2015-0079, dated May 7, 2015 (referred to after this as the Mandatory Continuing Airworthiness Information, or “the MCAI”), to correct an unsafe condition for certain Airbus Model A330-200 and -300 series airplanes, Model A340-200 and -300 series airplanes, and Model A340-541 and -642 airplanes. The MCAI states:

An A330 aeroplane equipped with Basic MLG was rolling out after landing when it experienced a nose wheel steering fault (unrelated to the safety subject addressed by this AD), which resulted in the crew stopping the aeroplane on the taxiway after vacating the runway. The subsequent investigation revealed that the right-hand MLG sidestay upper cardan pin had migrated out of position. The sidestay upper cardan nut and retainer had detached from the upper cardan pin and were found, still bolted together, in the landing gear bay.

Prompted by these findings, Airbus published Alert Operators Transmission (AOT) A32L003-14, providing inspection instructions and, as an interim solution, EASA issued AD 2014-0066 [which corresponds to FAA AD 2015-10-03, Amendment 39-18158 (80 FR 30608, May 29, 2015)] to require repetitive detailed inspections (DET) of the MLG upper cardan pin, nut and retainer. That AD also required accomplishment of a one-time gap check between wing rear spar fitting lugs and the bush flanges and, depending on findings, corrective action(s). The gap check (including corrections, as necessary) terminated the repetitive DET.

Since that [EASA] AD was issued, further investigation concluded that the reported MLG sidestay upper cardan pin migration event had been caused by corrosion, due to lack of jointing compound and inadequate sealant application during MLG installation. Therefore, this issue affects any MLG that had an upper cardan pin replacement or re-installation, irrespective of MLG overhaul. Any corrosion on the upper cardan pin and nut threads would not have been detected during the previously required DET.

This condition, if not detected and corrected, could lead to a complete migration of the sidestay upper cardan pin and a disconnection of the sidestay upper arm from the aeroplane structure, possibly resulting in MLG collapse with consequent damage to the aeroplane and injury to occupants.

To address this potential unsafe condition, Airbus published Service Bulletin (SB) A330-32-3269, SB A340-32-4301 and SB A340-32-5115 providing inspection instructions. In addition, to prevent any improper re-installation of an upper cardan pin on a MLG, Airbus amended the applicable Aircraft Maintenance Manual (AMM) on 01 October 2014.

For the reasons described above, this [EASA] AD supersedes EASA [AD] 2014-0066 and requires a one-time DET of the MLG upper cardan pin and nut threads to check for corrosion or damage on the upper cardan pin and nut threads, and, depending on findings, replacement of the damaged part(s).

As this unsafe condition could also develop on A330 freighters and A340-500/-600 aeroplanes, this [EASA] AD also applies to those aeroplanes.

You may examine the MCAI in the AD docket on the Internet at http://www.regulations.gov by searching for and locating Docket No. FAA-2016-0459.

Comments

We gave the public the opportunity to participate in developing this AD. The following presents the comment received on the NPRM and the FAA's response to that comment.

Request To Use the Latest Service Information

American Airlines (AA) requested that we use the latest service information in the NPRM. AA stated that since the NPRM was issued, Airbus released Service Bulletin A330-32-3269, Revision 01, dated December 3, 2015.

We agree with the commenter for the reasons stated above. We have reviewed Airbus Service Bulletin A330-32-3269, Revision 01, dated December 3, 2015, and there are no substantial changes. In addition, we have also reviewed Airbus Service Bulletin A340-32-4301, Revision 01, dated December 3, 2015; and Airbus Service Bulletin A340-32-5115, Revision 01, dated December 11, 2015. There are no substantial changes. We have revised this AD accordingly.

Conclusion

We reviewed the available data, including the comment received, and determined that air safety and the public interest require adopting this AD with the changes described previously and minor editorial changes. We have determined that these changes:

• Are consistent with the intent that was proposed in the NPRM for correcting the unsafe condition; and

• Do not add any additional burden upon the public than was already proposed in the NPRM.

Related Service Information Under 1 CFR Part 51

Airbus has issued the following service information:

• Airbus Service Bulletin A330-32-3269, Revision 01, dated December 3, 2015.

• Airbus Service Bulletin A340-32-4301, Revision 01, dated December 3, 2015.

• Airbus Service Bulletin A340-32-5115, Revision 01, dated December 11, 2015.

The service information describes procedures for a detailed inspection of the upper cardan pin and nut threads for any corrosion, pitting, or thread damage, and replacement of the cardan pin and nut. This service information is reasonably available because the interested parties have access to it through their normal course of business or by the means identified in the ADDRESSES section.

Costs of Compliance

We estimate that this AD affects 95 airplanes of U.S. registry.

We also estimate that it will take about 11 work-hours per product to comply with the basic requirements of this AD. The average labor rate is $85 per work hour. Based on these figures, we estimate the cost of this AD on U.S. operators to be $88,825, or $935 per product.

In addition, we estimate that any necessary follow-on actions will take about 12 work-hours and require parts costing $78,136, for a cost of $79,156 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-10-03, Amendment 39-18158 (80 FR 30608, May 29, 2015), and adding the following new AD:

2016-14-08 Airbus: Amendment 39-18589. Docket No. FAA-2016-0459; Directorate Identifier 2015-NM-081-AD.

(a) Effective Date

This AD is effective August 16, 2016.

(b) Affected ADs

This AD replaces 2015-10-03, Amendment 39-18158 (80 FR 30608, May 29, 2015).

(c) Applicability

This AD applies to the airplanes, certificated in any category, identified in paragraphs (c)(1), (c)(2), and (c)(3) of this AD, except airplanes on which an upper cardan pin on a main landing gear (MLG) has never been replaced or reinstalled since first entry into service of the airplane.

(1) Airbus Model A330-201, -202, -203, -223, -223F, -243, -243F, -301, -302, -303, -321, -322, -323, -341, -342, and -343 airplanes, all manufacturer serial numbers.

(2) Airbus Model A340-211, -212, -213, -311, -312, and -313 airplanes, all manufacturer serial numbers.

(3) Airbus Model A340-541 and -642 airplanes, all manufacturer serial numbers.

(d) Subject

Air Transport Association (ATA) of America Code 32, Landing Gear.

(e) Reason

This AD was prompted by a report that an MLG sidestay upper cardan pin migration event had been caused by corrosion due to lack of jointing compound and inadequate sealant application during the MLG installation. We are issuing this AD to detect and correct migration of the sidestay upper cardan pin, which could result in disconnection of the sidestay upper arm from the airplane structure, and could result in a landing gear collapse and consequent damage to the airplane and injury to occupants.

(f) Compliance

Comply with this AD within the compliance times specified, unless already done.

(g) Definition

For the purpose of this AD, an upper cardan pin on a MLG is affected if it has been installed as a replacement part, or reinstalled since first entry of the airplane into service, and if the installation was accomplished using the applicable airplane maintenance manual at a revision level prior to October 1, 2014.

(h) Inspection and Replacement

(1) For an affected upper cardan pin on an MLG: Before exceeding 96 months since its latest installation on an airplane, or within 12 months after the effective date of this AD, whichever occurs later, do a detailed inspection of the upper cardan pin and nut threads for any corrosion, pitting, or thread damage, in accordance with the Accomplishment Instructions of the applicable service information specified in paragraph (i) of this AD.

(2) If, during the detailed inspection specified in paragraph (h)(1) of this AD, any corrosion, pitting, or thread damage is found, before further flight, replace the upper cardan pin and/or nut, as applicable, in accordance with the Accomplishment Instructions of the applicable service information specified in paragraph (i) of this AD.

(i) Applicable Service Information

Do the actions required by paragraph (h) of this AD in accordance with the Accomplishment Instructions of the applicable service information identified in paragraphs (i)(1), (i)(2), and (i)(3) of this AD.

(1) Airbus Service Bulletin A330-32-3269, Revision 01, dated December 3, 2015 (for Airbus Model A330-201, -202, -203, -223, -223F, -243, -243F, -301, -302, -303, -321, -322, -323, -341, -342, and -343 airplanes).

(2) Airbus Service Bulletin A340-32-4301, Revision 01, dated December 3, 2015 (for Airbus Model A340-211, -212, -213, -311, -312, and -313 airplanes).

(3) Airbus Service Bulletin A340-32-5115, Revision 01, dated December 11, 2015 (for Airbus Model A340-541 and -642 airplanes).

(j) Credit for Previous Actions

This paragraph provides credit for the actions specified in paragraph (h) of this AD, if those actions were performed before the effective date of this AD using the applicable service information identified in paragraphs (j)(1), (j)(2), and (j)(3) of this AD. This service information is not incorporated by reference in this AD.

(1) Airbus Service Bulletin A330-32-3269, dated February 17, 2015.

(2) Airbus Service Bulletin A340-32-4301, dated February 17, 2015.

(3) Airbus Service Bulletin A340-32-5115, dated February 17, 2015.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM 116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

(1) Refer to Mandatory Continuing Airworthiness Information (MCAI) EASA Airworthiness Directive 2015-0079, dated May 7, 2015, for related information. This MCAI may be found in the AD docket on the Internet at http://www.regulations.gov by searching for and locating Docket No. FAA-2016-0459.

(2) Service information identified in this AD that is not incorporated by reference is available at the addresses specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-32-3269, Revision 01, dated December 3, 2015.

(ii) Airbus Service Bulletin A340-32-4301, Revision 01, dated December 3, 2015.

(iii) Airbus Service Bulletin A340-32-5115, Revision 01, dated December 11, 2015.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 28, 2016.
John P. Piccola, Jr.,
Acting Manager, Transport Airplane Directorate, Aircraft Certification Service.

[FR Doc. 2016-16316 Filed 7-11-16; 8:45 am]

BILLING CODE 4910-13-P